DEPARTMENT OF TRANSPORTATION

Federal Aviation Administration

14 CFR Part 73

[Docket No. FAA-2014-0875; Airspace Docket No. 14-ASO-13]

RIN 2120-AA66

Amendment of Restricted Area Boundary Descriptions; Cape Canaveral, FL

AGENCY: Federal Aviation Administration (FAA), DOT.

ACTION: Final rule; technical amendment.

SUMMARY: This action makes minor adjustments to the boundary descriptions of restricted areas R-2932, R-2933, R-2934 and R-2935 at Cape Canaveral, FL. The changes are required based on more accurate digital plotting of points that revealed minor mismatches between adjacent boundaries. The R-2933 description is also amended to remove exclusionary wording that no longer applies.

DATES: Effective date 0901 UTC, March 5, 2015.

FOR FURTHER INFORMATION CONTACT: Paul Gallant, Airspace Policy and Regulations Group, AJV-11, Office of Airspace Services, Federal Aviation Administration, 800 Independence Avenue SW., Washington, DC 20591; telephone: (202) 267-8783.

SUPPLEMENTARY INFORMATION:

Background

The introduction of more accurate digital plotting of airspace boundaries for aeronautical charting revealed minor mismatches in airspace boundaries adjacent to restricted areas R-2932, R-2933, R-2934 and R-2935 at Cape Canaveral, FL. This action adjusts certain coordinates in the descriptions of the above restricted areas to reflect more accurate data.

In addition, this action removes obsolete wording from the description of restricted area R-2933, Cape Canaveral, Fl. When R-2933 was established in 1988 (53 FR 6796, March 3, 1988), another restricted area, R-2931, partially extended into R-2933. Accordingly, an exclusion was inserted in the R-2933 boundary description, which read as follows: “excluding the area within a 2-statute mile radius circle centered at lat. 28°27′54″ N., long. 89°32′02″ W., from 5,000 feet MSL to and including 15,000 feet MSL.” Restricted area R-2931 was later removed when the using agency informed the FAA it was no longer needed. However, when R-2933 was amended to remove the exclusion, only the words “excluding the area within a 2-statute mile radius circle centered at lat. 28°27′54″ N., long. 89°32′02″ W.” were actually removed, and the words “from 5,000 feet MSL to and including 15,000 feet MSL” were inadvertently retained in the boundary description. This action removes the unnecessary wording from the R-2933 description.

The Rule

This action amends Title 14 Code of Federal Regulations (14 CFR) part 73 to make minor updates to certain latitude/longitude coordinates in the descriptions of restricted areas R-2932, R-2933, R-2934 and R-2935 at Cape Canaveral, FL. The changes are based on more accurate digital plotting of the points which revealed several slight mismatches between adjacent boundaries. R-2933 is also amended to remove wording that no longer applies. The specific restricted area boundary changes are listed below:

R-2932: The point “lat. 28°41′41″ N., long. 80°34′59″ W.” is replaced with “28°41′33″ N., long. 80°35′25″ W.;” and the point “28°25′01″ N., long. 80°30′29″ W.” is replaced with 28°24′31″ N., long. 80°29′52″ W.” These points are changed to match the adjacent boundary of warning area W-497A and W-497B.

R-2933: The point “28°41′41″ N., long. 80°34′59″ W.” is replaced with “28°41′33″ N., long. 80°35′25″ W.” to match warning area W-497A; and the point “28°25′01″ N., long.80°30′29″ W.” is replaced with “28°24′31″ N., long. 80°29′52″ W.” to match the boundaries of warning areas W-497A and W-497B.

In addition, this action removes the words “from 5,000 feet MSL to and including 15,000 feet MSL” from the boundary description in the regulatory text for restricted area R-2933. As described above, the airspace exclusion no longer exists.

R-2934: The point “28°51′16″ N., long. 80°42′19″ W.” is replaced with “28°51′16″ N., long. 80°42′29″ W.” to more accurately meet a point 3 nautical miles from the shoreline. The point “28°41′41″ N., long. 80°34′59″ W.” is replaced with “28°41′33″ N., long. 80°35′25″ W.” to match the boundary of warning area W-497A.

R-2935: The point “28°58′01″ N., long. 80°46′59″ W.” is replaced with 28°58′02″ N., long. 80°46′58″ W.;” to intersect a point 3 nautical miles from the shoreline. The point “28°51′16″ N., long. 80°42′19″ W.” is replaced with “28°51′16″ N., long. 80°42′29″ W.” and the point “28°25′01″ N., long. 80°30′29″ W.” is replaced with “28°24′31″ N., long. 80°29′52″ W.” to match warning areas W-497A and W-497B. The point “28°19′01″ N., long. 80°33′29″ W.” is replaced with 28°19′01″ N., long. 80°33′00″ W.” to intersect a point 3 nautical miles from the shoreline.

This amendment consists of minor editorial changes to update existing restricted area boundaries with more accurate digital information and remove obsolete wording. It does not affect the location, designated altitudes, or activities conducted within the restricted areas; therefore, notice and public procedure under 5 U.S.C. 553(b) are unnecessary.

The FAA has determined that this action only involves an established body of technical regulations for which frequent and routine amendments are necessary to keep them operationally current. Therefore, this regulation: (1) Is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

The FAA's authority to issue rules regarding aviation safety is found in Title 49 of the United States Code. Subtitle I, Section 106 describes the authority of the FAA Administrator. Subtitle VII, Aviation Programs, describes in more detail the scope of the agency's authority.

This rulemaking is promulgated under the authority described in Subtitle VII, Part A, Subpart I, Section 40103. Under that section, the FAA is charged with prescribing regulations to assign the use of the airspace necessary to ensure the safety of aircraft and the efficient use of airspace. This regulation is within the scope of that authority as it makes minor editorial changes to the descriptions of Restricted areas at Cape Canaveral, FL, providing more accurate coordinates and removing obsolete wording.

Environmental Review

The FAA has determined that this action qualifies for categorical exclusion under the National Environmental Policy Act in accordance with 311d, FAA Order 1050.1E, Environmental Impacts: Policies and Procedures. This airspace action is a minor editorial change to the descriptions of restricted areas R-2932, R-2933, R-2934 and R-2935, at Cape Canaveral, FL, to reflect more accurate digital plotting of latitude/longitude coordinates and to remove exclusionary language that is no longer required in R-2933. It does not alter the location, altitudes, or activities conducted within the airspace; therefore, it is not expected to cause any potentially significant environmental impacts, and no extraordinary circumstances exists that warrant preparation of an environmental assessment.

List of Subjects in 14 CFR Part 73

Airspace, Prohibited areas, Restricted areas.

Adoption of the Amendment

In consideration of the foregoing, the Federal Aviation Administration amends 14 CFR part 73, as follows:

PART 73—SPECIAL USE AIRSPACE

1. The authority citation for part 73 continues to read as follows:

Authority: 49 U.S.C. 106(g), 40103, 40113, 40120; E.O. 10854, 24 FR 9565, 3 CFR, 1959-1963 Comp., p. 389.

§ 73.29 [Amended]

2. Section 73.29 is amended as follows:

* * * * *

R-2932 Cape Canaveral, FL [Amended]

By removing the current boundaries and adding the following:

Boundaries. Beginning at lat. 28°39′21″ N., long. 80°42′39″ W.; to lat. 28°41′33″ N., long. 80°35′25″ W.; thence 3 NM from and parallel to the shoreline; to lat. 28°24′31″ N., long. 80°29′52″ W.; to lat. 28°25′01″ N., long. 80°37′59″ W.; to lat. 28°34′01″ N., long. 80°39′29″ W.; to the point of beginning.

R-2933 Cape Canaveral, FL [Amended]

By removing the current boundaries and adding the following:

Boundaries. Beginning at lat. 28°39′21″ N., long. 80°42′39″ W.; to lat. 28°41′33″ N., long. 80°35′25″ W.; thence 3 NM from and parallel to the shoreline; to lat. 28°24′31″ N., long. 80°29′52″ W.; to lat. 28°25′01″ N., long. 80°37′59″ W.; to lat. 28°34′01″ N., long. 80°39′29″ W.; to the point of beginning.

R-2934 Cape Canaveral, FL [Amended]

By removing the current boundaries and adding the following:

Boundaries. Beginning at lat. 28°49′11″ N., long. 80°50′44″ W.; to lat. 28°51′16″ N., long. 80°47′14″ W.; to lat. 28°51′16″ N., long. 80°42′29″ W.; thence 3 NM from and parallel to the shoreline; to lat. 28°41′33″ N., long. 80°35′25″ W.; to lat. 28°39′21″ N., long. 80°42′39″ W.; to lat. 28°34′01″ N., long. 80°39′29″ W.; to lat. 28°25′01″ N., long. 80°37′59″ W.; to lat. 28°25′01″ N., long. 80°41′44″ W.; to lat. 28°31′21″ N., long. 80°43′49″ W.; to lat. 28°38′01″ N., long. 80°47′01″ W.; to the point of beginning, excluding that airspace below 1,200 feet AGL west of a line from lat. 28°31′21″ N., long. 80°43′49″ W.; to lat. 28°28′41″ N., long. 80°40′29″ W.; to lat. 28°25′01″ N., long. 80°40′29″ W.

R-2935 Cape Canaveral, FL [Amended]

By removing the current boundaries and adding the following:

Boundaries. Beginning at lat. 28°47′21″ N., long. 81°04′59″ W.; to lat. 28°58′02″ N., long. 80°46′58″ W.; thence 3 NM from and parallel to the shoreline; to lat. 28°51′16″ N., long. 80°42′29″ W.; to lat. 28°51′16″ N., long. 80°47′14″ W.; to lat. 28°49′11″ N., long. 80°50′44″ W.; to lat. 28°38′01″ N., long. 80°47′01″ W.; to lat. 28°31′21″ N., long. 80°43′49″ W.; to lat. 28°25′01″ N., long. 80°41′44″ W.; to lat. 28°24′31″ N., long. 80°29′52″ W.; thence 3 NM from and parallel to the shoreline; to lat. 28°19′01″ N., long. 80°33′00″ W.; to lat. 28°19′01″ N., long. 80°46′29″ W.; to the point of beginning.

Issued in Washington, DC, on December 9, 2014.
Gary A. Norek,
Manager, Airspace Policy and Regulations Group.

[FR Doc. 2014-29268 Filed 12-12-14; 8:45 am]

BILLING CODE 4910-13-P